DEPARTMENT OF ENERGY

Federal Energy Regulatory Commission

Combined Notice of Filings #1

Take notice that the Commission received the following exempt wholesale generator filings:

Docket Numbers: EG11-51-000.

Applicants: CPV Batesville, LLC.

Description: Notice of Self-Certification of Exempt Wholesale Generator Status of CPV Batesville, LLC.

Filed Date: 01/31/2011.

Accession Number: 20110131-5252.

Comment Date: 5 p.m. Eastern Time on Tuesday, February 22, 2011.

Take notice that the Commission received the following electric rate filings:

Docket Numbers: ER11-1988-002.

Applicants: PJM Interconnection, L.L.C.

Description: PJM Interconnection, L.L.C. submits tariff filing per 35: Counterparty Compliance Filing to be effective 1/1/2011.

Filed Date: 01/31/2011.

Accession Number: 20110131-5258.

Comment Date: 5 p.m. Eastern Time on Tuesday, February 22, 2011.

Docket Numbers: ER11-2087-003.

Applicants: FC Landfill Energy, LLC.

Description: FC Landfill Energy, LLC submits tariff filing per 35: Refund Report Supplemental Information to be effective N/A.

Filed Date: 01/31/2011.

Accession Number: 20110131-5278.

Comment Date: 5 p.m. Eastern Time on Tuesday, February 22, 2011.

Docket Numbers: ER11-2192-002.

Applicants: Red Mesa Wind, LLC.

Description: Red Mesa Wind, LLC submits tariff filing per 35.17(b): Red Mesa Revisions to Limitations and Exceptions Tariff Language to be effective 11/25/2010.

Filed Date: 01/31/2011.

Accession Number: 20110131-5260.

Comment Date: 5 p.m. Eastern Time on Tuesday, February 22, 2011.

Docket Numbers: ER11-2209-001.

Applicants: Alta Wind II, LLC.

Description: Notice of Non-Material Change in Status of Alta Wind II, LLC.

Filed Date: 01/28/2011.

Accession Number: 20110128-5152.

Comment Date: 5 p.m. Eastern Time on Friday, February 18, 2011.

Docket Numbers: ER11-2211-001.

Applicants: Alta Wind I, LLC.

Description: Notice of Non-Material Change in Status of Alta Wind I, LLC.

Filed Date: 01/31/2011.

Accession Number: 20110131-5215.

Comment Date: 5 p.m. Eastern Time on Tuesday, February 22, 2011.

Docket Numbers: ER11-2719-001.

Applicants: Southwest Power Pool, Inc.

Description: Southwest Power Pool, Inc. submits tariff filing per 35.17(b): Amendment to 2141 Buffalo Point Wind LLC GIA to be effective 12/22/2010.

Filed Date: 01/31/2011.

Accession Number: 20110131-5274.

Comment Date: 5 p.m. Eastern Time on Tuesday, February 22, 2011.

Docket Numbers: ER11-2801-000.

Applicants: PJM Interconnection, L.L.C.

Description: PJM Interconnection, L.L.C. submits tariff filing per 35.13(a)(2)(iii): Non-substantive revisions to Attachment Hs conforming PJM's baseline filing to be effective 9/17/2010.

Filed Date: 01/31/2011.

Accession Number: 20110131-5232.

Comment Date: 5 p.m. Eastern Time on Tuesday, February 22, 2011.

Docket Numbers: ER11-2802-000.

Applicants: New England Power Pool Participants Committee.

Description: New England Power Pool Participants Committee submits tariff filing per 35.13(a)(2)(iii): February 2011 Membership Filing to be effective 2/1/2011.

Filed Date: 01/31/2011.

Accession Number: 20110131-5256.

Comment Date: 5 p.m. Eastern Time on Tuesday, February 22, 2011.

Docket Numbers: ER11-2803-000.

Applicants: Central Maine Power Company.

Description: Central Maine Power Company submits tariff filing per 35.13(a)(2)(iii): Central Main Power Company—Gallop Power Greenville Interconnection Agreement to be effective 1/1/2011.

Filed Date: 01/31/2011.

Accession Number: 20110131-5268.

Comment Date: 5 p.m. Eastern Time on Tuesday, February 22, 2011.

Docket Numbers: ER11-2804-000.

Applicants: GenOn Florida, LP.

Description: GenOn Florida, LP submits tariff filing per 35.13(a)(2)(iii): Notice of Succession to be effective 9/27/2010.

Filed Date: 01/31/2011.

Accession Number: 20110131-5270.

Comment Date: 5 p.m. Eastern Time on Tuesday, February 22, 2011.

Docket Numbers: ER11-2805-000.

Applicants: RRI Energy Services, LLC.

Description: RRI Energy Services, LLC submits tariff filing per 35.13(a)(2)(iii): Notice of Succession—MBR Tariff to be effective 9/27/2010.

Filed Date: 01/31/2011.

Accession Number: 20110131-5271.

Comment Date: 5 p.m. Eastern Time on Tuesday, February 22, 2011.

Docket Numbers: ER11-2806-000.

Applicants: NV Energy, Inc.

Description: NV Energy, Inc. submits tariff filing per 35.13(a)(2)(iii): Service Agreement No. 10-00979 Amendment 1 LGIA to be effective 1/7/2011.

Filed Date: 01/31/2011.

Accession Number: 20110131-5275.

Comment Date: 5 p.m. Eastern Time on Tuesday, February 22, 2011.

Docket Numbers: ER11-2807-000.

Applicants: Central Maine Power Company.

Description: Central Maine Power Company submits tariff filing per 35.13(a)(2)(iii): Central Maine Power Company—Rocky Gorge Corporation Interconnection Agreement to be effective 1/1/2011.

Filed Date: 01/31/2011.

Accession Number: 20110131-5276.

Comment Date: 5 p.m. Eastern Time on Tuesday, February 22, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 1, 2011.
Nathaniel J. Davis, Sr.,
Deputy Secretary.

[FR Doc. 2011-2935 Filed 2-9-11; 8:45 am]

BILLING CODE 6717-01-P